NUCLEAR REGULATORY COMMISSION

[Docket No. 72-4; NRC-2008-0333]

Notice of Issuance of Renewed Materials License SNM-2503; Duke Power Company, LLC; Oconee Independent Spent Fuel Storage Installation

AGENCY: Nuclear Regulatory Commission.

ACTION: Notice of renewal of license.

FOR FURTHER INFORMATION CONTACT: John Goshen, Project Manager, Division of Spent Fuel Storage and Transportation, Office of Nuclear Material Safety and Safeguards, U.S. Nuclear Regulatory Commission, Washington, DC 20555. Telephone: (301) 492-3325; fax number: (301) 492-3342; e-mail: john.goshen@nrc.gov.

SUPPLEMENTARY INFORMATION:

I. Introduction

The U.S. Nuclear Regulatory Commission (NRC or the Commission) has issued renewed Materials License SNM-2503 to Duke Power Company, LLC (Duke) for the receipt, possession, transfer, and storage of spent fuel at the Oconee Independent Spent Fuel Storage Installation (ISFSI), located in Oconee County, South Carolina. The renewed license authorizes operation of the Oconee ISFSI in accordance with the provisions of the renewed license and its Technical Specifications. The renewed license expires on January 31, 2050.

II. Background

By application dated January 30, 2008, as supplemented January 30, 2009, Duke requested renewal of its operating license for the Oconee ISFSI. Duke requested the renewal of the original ISFSI license for a renewal period of 20 years, and an exemption for an additional 20 years.

III. Finding

The application for the renewed license complies with the standards and requirements of the Atomic Energy Act of 1954 (the Act), as amended, and the Commission's regulations. The Commission has made appropriate findings as required by the Act and the Commission's rules and regulations in 10 CFR Chapter 1, which are set forth in the license. In addition, in accordance with 10 CFR 72.7, the Commission has determined that the exemption is authorized by law and will not endanger life or property or the common defense and security and is otherwise in the public interest. Public notice of the proposed action and opportunity for hearing regarding the proposed issuance of the renewed license was published in the Federal Register on June 12, 2008 (73 FR 33462).

FOR FURTHER INFORMATION CONTACT: Supporting documentation is available for inspection at NRC's Public Electronic Reading Room at: http://www.nrc.gov/reading-rm/ADAMS.html. A copy of the license application, dated January 30, 2008, supplement dated January 30, 2009, and the staff's Environmental Assessment, dated May 15, 2009, can be found at this site using the Agency Document And Management System accession numbers ML08032046, ML090370066, and ML091340557. The staff Notice of Availability of Environmental Assessment and Finding of No Significant Impact for this action was published in the Federal Register on May 21, 2009 (74 FR 23897).

Dated at Rockville, Maryland, this 29th day of May 2009.
For the Nuclear Regulatory Commission.
Kimberly Hardin,
Acting Chief, Licensing Branch, Division of Spent Fuel Storage and Transportation, Office of Nuclear Material Safety and Safeguards.

[FR Doc. E9-13422 Filed 6-8-09; 8:45 am]

BILLING CODE 7590-01-P